AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to Ross_A._Rutledge@omb.eop.gov or fax to 202-395-3086. Copies of submission may be obtained by calling (202) 712-1365.

SUPPLEMENTARY INFORMATION: OMB Number: OMB 0412-0565.

Form Number: N/A.

Title: Applicant's Certification that it Does not Support Terrorist Organizations or tIndividuals.

Type of Submission: Renewal of Information Collection.

Purpose: The United States Agency for International Development (USAID) needs to require applicants for assistance to certify that it does not and will not engage in financial transactions with, and does not and will not provide material support and resources to individuals or organizations that engage in terrorism. The purpose of this requirement is to assure that USAID does not directly provide support to such organizations or individuals, and to assure that recipients are aware of these requirements when it considers individuals or organizations are subrecipients.

Annual Reporting Burden

Respondents: 2,000.

Total annual responses: 4,000.

Total annual hours requested: 1,500 hours.

Dated: October 21, 2010.
Beth Salamanca,
Acting Director, Office of Management Services, Bureau for Management.

[FR Doc. 2010-27369 Filed 10-28-10; 8:45 am]

BILLING CODE 6116-01-M